DEPARTMENT OF HEALTH AND HUMAN SERVICES

Submission for OMB Review; Comment Request

Title: Child and Family Services Plan, Annual Progress and Services Report, and Budget Request.

OMB No.: 0980-0047.

Description: Under title IV-B, subparts 1 and 2, of the Social Security Act, States and Indian Tribes are to submit a five-year Child and Family Services Plan (CFSP) or an Annual Progress and Services Report (APSR), and an annual budget request and estimated expenditure report (CFS-101). In accordance with Federal regulations and policy issuances, States are required to provide an update on their progress in achieving stated goals and service delivery improvements within their child welfare system. The CFSP is used by States and Indian Tribes to develop and implement services, and describe coordination efforts with other Federal, State, and local programs. The APSR is used to provide updates and changes in the goals and services under the five-year plan. The CFS-101 will be submitted each year—once every five years along with the CFSP and the intervening four years along with the APSR—to apply for appropriated funds for each fiscal year. The CFSP also includes the required State plans under Section 106 of the child Abuse Prevention Treatment Act and section 477 of title IV-E, the Chafee Foster Care Independence Program.

Respondents: States and Indian Tribes.

Annual Burden Estimates

Instrument | Number of respondents | Number of responses per respondent | Average burden hours per response | Total burden hours
CFSP | 275 | 1 | 240 | 66,000/5 = 13,200
APSR | 275 | 1 | 180 | 49,500
CFS101 | 275 | 1 | 5 | 1,375
Estimated Total Annual Burden Hours |  |  |  | 64,075

Additional Information: Copies of the proposed collection may be obtained by writing to The Administration for Children and Families, Office of Information Services, 370 L'Enfant Promenade, SW., Washington, DC 20447, Attn: ACF Reports clearance Officer. E-mail address: grjohnson@acf.hhs.gov. All requests should be identified by the title of the information collection.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: August 4, 2005.
Robert Sargis,
Reports Clearance Officer.

[FR Doc. 05-15821 Filed 8-9-05; 8:45 am]

BILLING CODE 4184-01-M